DEPARTMENT OF HEALTH AND HUMAN SERVICES

Administration for Children and Families

[CFDA Number 93.093]

Notice of the Award of Single-Source Program Expansion Supplements to Multiple Grantees Under the Health Profession Opportunity Grants (HPOG)

AGENCY: Office of Family Assistance, ACF, HHS.

ACTION: Award of single-source program expansion supplement grants to multiple grantees under the Office of Family Assistance's Health Profession Opportunity Grants program

SUMMARY: This Administration for Children and Families (ACF), Office of Family Assistance (OFA), Health Profession Opportunity Grants (HPOG) program announces the award of single-source program expansion supplements to all grantees under this program.

DATES: The project period for the award is September 30, 2012-September 29, 2013.

FOR FURTHER INFORMATION CONTACT: Stan Koutstaal, Program Manager, Office of Family Assistance, 370 L'Enfant Promenade, SW., Washington, DC 20447. Telephone: 202-401-5457; Email: stanley.koutstaal@acf.hhs.gov.

SUPPLEMENTARY INFORMATION: The following grantees will receive single-source program expansion supplements:

Organization name | Location | State | Supplement award
Bergen Community College | Paramus | NJ | $125,000
Central Community College | Grand Island | NE | 125,000
Office of Minority Health Department of Health and Human Services | Concord | NH | 125,000
Eastern Gateway Community College | Steubenville | OH | 1,535,534
Pima County Community College District | Tucson | AZ | 125,000
Buffalo and Erie County Workforce Development Consortium, Inc | Buffalo | NY | 125,000
Schenectady County Community College | Schenectady | NY | 125,000
Gateway Community and Technical College | Florence | KY | 125,000
Temple University of the Commonwealth System of Higher Ed | Philadelphia | PA | 125,000
Community Action Project of Tulsa County, Inc | Tulsa | OK | 125,000
Central Susquehanna Intermediate Unit | Lewisburg | PA | 876,159
Milwaukee Area Workforce Investment Board, Inc | Milwaukee | WI | 125,000
Full Employment Council | Kansas City | MO | 125,000
South Carolina Department of Social Services | Columbia | SC | 125,000
Will County | Joliet | IL | 125,000
District Board of Trustees of Pensacola State College | Pensacola | FL | 125,000
Alamo Community College District | San Antonio | TX | 125,000
Gateway Technical College | Kenosha | WI | 125,000
Workforce Development Council of Seattle-King County | Seattle | WA | 125,000
Kansas Department of Commerce | Topeka | KS | 125,000
San Diego Workforce Partnership, Inc | San Diego | CA | 125,000
Research Foundation of the City University of New York—Hostos Community College | Bronx | NY | 125,000
Workforce Investment Board SDA-83, Inc | Monroe | LA | 125,000
Edmonds Community College | Lynnwood | WA | 125,000
Southland Health Care Forum, Inc. | Chicago Heights | IL | 125,000
Suffolk County Department of Labor | Hauppauge | NY | 125,000
The WorkPlace, Inc. | Bridgeport | CT | 125,000
Blackfeet Community College | Browning | MT | 125,000
Turtle Mountain Community College | Belcourt | ND | 125,000
Cook Inlet Tribal Council, Inc. | Anchorage | AK | 125,000
College of Menominee Nation | Keshena | WI | 125,000
Cankdeska Cikana Community College | Fort Totten | ND | 125,000

Statutory Authority: Section 2008(a) of Title XX of the Social Security Act, as amended by Section 5507 of the Affordable Care Act (Pub. L. 111-148).

Earl S. Johnson,
Director, Office of Family Assistance.

[FR Doc. 2012-24310 Filed 10-2-12; 8:45 am]

BILLING CODE 4184-48-P